SMALL BUSINESS ADMINISTRATION

[Disaster Declaration # 17155 and # 17156; North Carolina Disaster Number NC-00127]

Presidential Declaration of a Major Disaster for the State of North Carolina

AGENCY: U.S. Small Business Administration.

ACTION: Notice.

SUMMARY: This is a Notice of the Presidential declaration of a major disaster for the State of North Carolina (FEMA-4617-DR), dated 09/08/2021.

Incident: Remnants of Tropical Storm Fred.

Incident Period: 08/16/2021 through 08/18/2021.

DATES: Issued on 09/08/2021.

Physical Loan Application Deadline Date: 11/08/2021.

Economic Injury (EIDL) Loan Application Deadline Date: 06/08/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 09/08/2021, applications for disaster loans may be filed at the address listed above or other locally announced locations.

The following areas have been determined to be adversely affected by the disaster:

Primary Counties (Physical Damage and Economic Injury Loans): Buncombe, Haywood, Transylvania.

Contiguous Counties (Economic Injury Loans Only):

North Carolina: Henderson, Jackson, Madison, McDowell, Rutherford, Swain, Yancey.

South Carolina: Greenville, Oconee, Pickens.

Tennessee: Cocke, Sevier.

The Interest Rates are:

| Percent
For Physical Damage:
Homeowners with Credit Available Elsewhere | 3.125
Homeowners without Credit Available Elsewhere | 1.563
Businesses with Credit Available Elsewhere | 5.710
Businesses without Credit Available Elsewhere | 2.855
Non-Profit Organizations with Credit Available Elsewhere | 2.000
Non-Profit Organizations without Credit Available Elsewhere | 2.000
For Economic Injury:
Businesses & Small Agricultural Cooperatives without Credit Available Elsewhere | 2.855
Non-Profit Organizations without Credit Available Elsewhere | 2.000

The number assigned to this disaster for physical damage is 17155 8 and for economic injury is 17156 0.

(Catalog of Federal Domestic Assistance Number 59008)

James Rivera,
Associate Administrator for Disaster Assistance.

[FR Doc. 2021-19869 Filed 9-14-21; 8:45 am]

BILLING CODE 8026-03-P